DEPARTMENT OF ENERGY

Federal Energy Regulatory Commission

Combined Notice of Filings #2

Take notice that the Commission received the following electric corporate filings:

Docket Numbers: EC18-78-000.

Applicants: Florida Power & Light Company.

Description: Second Supplement to July 5, 2018 Response to June 5, 2018 Deficiency Letter of Florida Power & Light Company.

Filed Date: 8/21/18.

Accession Number: 20180821-5084.

Comments Due: 5 p.m. ET 9/11/18.

Take notice that the Commission received the following electric rate filings:

Docket Numbers: ER18-1286-001.

Applicants: FirstEnergy Solutions Corp.

Description: Compliance filing: Notice of Transaction Closing and Effective Date of Rate Schedule FERC No. 1 to be effective 7/31/2018.

Filed Date: 8/21/18.

Accession Number: 20180821-5050.

Comments Due: 5 p.m. ET 9/11/18.

Docket Numbers: ER18-2264-000.

Applicants: Macquarie Energy Trading LLC.

Description: Baseline eTariff Filing: MBR Application to be effective10/21/2018.

Filed Date: 8/21/18.

Accession Number: 20180821-5042.

Comments Due: 5 p.m. ET 9/11/18.

Docket Numbers: ER18-2265-000.

Applicants: PJM Interconnection, L.L.C.

Description: § 205(d) Rate Filing: Amendment to First Revised ISA No. 3255; Queue No. W4-073 to be effective 11/2/2016.

Filed Date: 8/21/18.

Accession Number: 20180821-5043.

Comments Due: 5 p.m. ET 9/11/18.

Docket Numbers: ER18-2266-000.

Applicants: Southwest Power Pool, Inc.

Description: § 205(d) Rate Filing: 1910R12 Southwestern Public Service Company to be effective 8/1/2018.

Filed Date: 8/21/18.

Accession Number: 20180821-5046.

Comments Due: 5 p.m. ET 9/11/18.

Docket Numbers: ER18-2267-000.

Applicants: Entergy Texas, Inc.

Description: Tariff Cancellation: ETI-Kirbyville Wholesale Distribution Service Agreement to be effective7/11/2018.

Filed Date: 8/21/18.

Accession Number: 20180821-5047.

Comments Due: 5 p.m. ET 9/11/18.

Docket Numbers: ER18-2268-000.

Applicants: Entergy Services, Inc.

Description: Tariff Cancellation: Kirbyville-EES Local Balancing Authority Agreement to be effective7/11/2018.

Filed Date: 8/21/18.

Accession Number: 20180821-5048.

Comments Due: 5 p.m. ET 9/11/18.

Docket Numbers: ER18-2269-000.

Applicants: PJM Interconnection, L.L.C.

Description: Tariff Cancellation: Notice of Cancellation of ISA/SA No. 4606; Queue No. AA1-046 to be effective 8/20/2018.

Filed Date: 8/21/18.

Accession Number: 20180821-5064.

Comments Due: 5 p.m. ET 9/11/18.

Docket Numbers: ER18-2270-000.

Applicants: Paulding Wind Farm III LLC.

Description: Baseline eTariff Filing: Reactive Power Compensation Filing to be effective 10/20/2018.

Filed Date: 8/21/18.

Accession Number: 20180821-5069.

Comments Due: 5 p.m. ET 9/11/18.

Docket Numbers: ER18-2271-000.

Applicants: Midcontinent Independent System Operator, Inc.

Description: § 205(d) Rate Filing: 2018-08-21_SA 3158 ATC-Plymouth Project Commitment Agreement to be effective 10/21/2018.

Filed Date: 8/21/18.

Accession Number: 20180821-5077.

Comments Due: 5 p.m. ET 9/11/18.

Docket Numbers: ER18-2272-000.

Applicants: Midcontinent Independent System Operator, Inc.

Description: § 205(d) Rate Filing: 2018-08-21_SA 3144 Entergy Texas-Liberty County-Entergy Texas MPFCA (J472 J483) to be effective 8/7/2018.

Filed Date: 8/21/18.

Accession Number: 20180821-5093.

Comments Due: 5 p.m. ET 9/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2018.
Nathaniel J. Davis, Sr.,
Deputy Secretary.

[FR Doc. 2018-18469 Filed 8-24-18; 8:45 am]

BILLING CODE 6717-01-P